DEPARTMENT OF AGRICULTURE

Rural Business-Cooperative Service

Rural Housing Service

Rural Utilities Service

[Docket No. RBS-21-BUSINESS-0034]

Strategic Economic and Community Development Program

AGENCY: Rural Business-Cooperative Service, Rural Housing Service, and Rural Utilities Service, USDA.

ACTION: Notice of solicitation of applications.

SUMMARY: The Deputy Under Secretary for Rural Development (RD) is seeking applications for the Strategic Economic and Community Development (SECD) priority, as reauthorized by Section 6401of the Agriculture Improvement Act, 2018 (2018 Farm Bill) with modifications, for projects that support multi-jurisdictional and multi-sectoral strategic community investment plans. In Fiscal Year (FY) 2022, the Agency will implement SECD by reserving loan and or grant funds from the appropriations of the programs covered by this funding priority. This notice describes the requirements by which the Agency will consider projects eligible for the covered programs' reserved appropriated funds and the information needed to submit an application.

DATES: To apply for SECD funding in FY 2022, applicants must submit Form RD 1980-88, “Strategic Economic and Community Development (Section 6401),” with their program application to the appropriate covered program. Each of the seven covered programs have different established deadlines for receipt of applications. Please refer to the Agency website or the appropriate covered program's Federal Register Notice for deadline information. All applicants are responsible for any expenses incurred in preparing and submitting applications.

ADDRESSES: This notice will be announced on www.Grants.gov. SECD applications, with the exception of Community Connect Grant Program SECD applications, must be submitted to the USDA Rural Development Office servicing the area where the project is located. A list of the USDA Rural Development State Offices can be found at: https://www.rd.usda.gov/about-rd/state-offices. Community Connect applicants must submit SECD applications electronically at: https://www.rd.usda.gov/community-connect. For lenders assigned an OneRD Loan Guarantee Initiative Customer Relationship Manager (CRM), SECD applications must be submitted to their assigned CRM.

FOR FURTHER INFORMATION CONTACT: For more information, please contact your respective Rural Development State Office listed here: https://www.rd.usda.gov/about-rd/state-offices.

For all other inquiries, you may contact Greg Batson, Rural Development Innovation Center, U.S. Department of Agriculture, Stop 0793, 1400 Independence Avenue SW, Washington, DC 20250-0783, Telephone: (573) 239-2945. Email: gregory.batson@usda.gov.

A checklist of all required application information for regional planning priority can be found at: https://www.rd.usda.gov/programs-services/strategic-economic-and-community-development.

SUPPLEMENTARY INFORMATION:

I. Background

Section 6401 of the Agriculture Improvement Act of 2018 (2018 Farm Bill) re-authorized Section 6025 of the Agricultural Act of 2014 (2014 Farm Bill) with some modifications. Section 6401 of the 2018 Farm Bill enables the Secretary of Agriculture to prioritize projects that support multi-jurisdictional and multi-sectoral strategic community investment plans when applying for program funds. These changes were implemented in an amendment to 7 CFR 1980 subpart K, which published in the Federal Register on September 22, 2020. In FY 2022, the Agency will reserve funds from the covered programs, using SECD regulation 7 CFR part 1980, subpart K.

SECD supports projects that promote and implement strategic community investment plans. These plans use the unique strengths of rural communities to advance prosperity. USDA Rural Development helps finance these projects to build community prosperity by using community assets, identifying resources, convening partners and leveraging federal, state, local or private funding.

In FY 2022, the Agency plans to implement SECD through reserving funds from the covered programs' appropriations. This notice provides requirements to applicants submitting applications for the covered programs' reserved funds and establishes the above-mentioned priority effective upon the publication of this notice.

Rural Development: Rural Development: Key Priorities

The Agency encourages applicants to consider projects that will advance the following key priorities of Rural Development:

• Assisting rural communities recover economically from the impacts of the COVID-19 pandemic, particularly disadvantaged communities;

• Ensuring all rural residents have equitable access to USDA-Rural Development programs and benefits from Rural Development funded projects; and

• Reducing climate pollution and increasing resilience to the impacts of climate change through economic support to rural communities.

For further information, visit https://www.rd.usda.gov/priority-points.

A. Statutory Authority

These funds are made available under the Authority of Section 6401 of the Agriculture Improvement Act of 2018 (Pub. L. 115-334); Consolidated Farm and Rural Development Act (7 U.S.C. 2008v).

B. Programs

Section 6401 of the 2018 Farm Bill (7 U.S.C. 2008v), authorizes any program under the Consolidated Farm and Rural Development Act (Pub. L. 87-128), as determined by the Secretary, to give priority to applications that support the implementation of multi-jurisdictional and multi-sectoral strategic community investment plans. In FY 2022, the Agency implements SECD through reserving funds from the covered programs, using SECD regulation 7 CFR part 1980, subpart K.

Accordingly, the Agency is giving priority to projects implementing strategic community investment plans in FY 2022 through the following Rural Development programs:

• Community Facility Loans; see 7 CFR part 1942, subpart A.

• Community Facilities Grants; see 7 CFR part 3570, subpart B.

• Community Facilities Guaranteed Loans; see 7 CFR part 5001.

• Water and Waste Disposal Programs Guaranteed Loans; see 7 CFR part 5001.

• Water and Waste Loans and Grants; see 7 CFR part 1780.

• Rural Business Development Grants; see 7 CFR part 4280, subpart E.

• Community Connect Grants; see 7 CFR part 1739.

II. Award Information

Type of Awards: Guaranteed loans, direct loans and grants.

Fiscal Year Funds: FY 2022 appropriated funds.

Available Funds: The amount of reserved funds available for SECD projects is dependent on the amount of available appropriated funding provided to each of the covered programs during the fiscal year.

Regional Planning Priority

For FY 2022 applications, the following table specifies the percentage of funds being reserved:

Program | Percentage of funds reserved for SECD
Community Facility Loans | 10
Community Facilities Grant Program | 5
Community Facilities Guaranteed Loans | 5
Water and Waste Disposal Programs Guaranteed Loans | 10
Water and Waste Loans | 5
Water and Waste Grants | 3
Rural Business Development Grants | 5
Community Connect Grant Program | 10

Award Amounts: Guaranteed loans, direct loans and grants will be awarded in amounts consistent with each applicable covered program.

Award Dates: Awards for SECD applications submitted to the covered programs in FY 2022 will be obligated on or before June 30, 2022, except Community Connect. Community Connect SECD awards will be obligated upon completion of all required programmatic reviews. The Agency will return any reserved funds that are not obligated by the obligation deadline to each covered program's regular funding account for obligation of eligible projects in that program.

III. Eligibility Information

A. Eligible Requirements

To be considered for SECD reserved funds, both the applicant and project must meet the eligibility requirements of the covered program. These requirements vary among the covered programs and applicants should refer to the regulations for those programs, which are referenced in I.A. of this notice.

The agency supports community and regional planning through the SECD regulation without making any changes to the applicant eligibility requirements of the covered programs. The SECD regulation includes three criteria that a project must meet in order to be considered for the SECD reserve funding (see 7 CFR 1980.1010):

The first criterion, as noted above, is that the project meets the applicable eligibility requirements of the covered program for which the applicant is applying.

The second criterion is that the project is “carried out in a rural area” as defined in 7 CFR 1980.1005. As defined, this means either the entire project is physically located in a rural area or all the beneficiaries of the service(s) provided through the project must either reside in or be located in a rural area. Note that the definition of “rural” varies among the covered programs and the Section 6401 regulation does not change those definitions. Therefore, the applicable program regulations as outlined in I.A. should be reviewed as necessary.

The third criterion is that the project supports the implementation of a strategic community investment plan on a multi-jurisdictional and multi-sectoral basis as defined in 7 CFR 1980.1005.

In order to be considered for the reserved funds from covered programs in FY 2022, applicants must (1) meet all requirements of the covered program; (2) meet all requirements in accordance with 7 CFR part 1980, subpart K (see7 CFR 1980.1010); and (3) submit Form RD 1980-88 and the supporting documentation required in 7 CFR 1080.1015 with their program application:

• Sufficient information to show that the project will be carried out in a rural area, as defined by the appropriate covered program; and

• Identification of any current or previous applications the applicant has submitted for funds from the covered programs.

B. Dun and Bradstreet Data Universal Numbering System (DUNS) for Award Management (SAM)

For covered program applicants, a Dun and Bradstreet Data Universal Numbering System (DUNS) number must be obtained and registered in the System for Award Management (SAM) prior to submitting an application pursuant to 2 CFR 25.200(b). In addition, an entity applicant must maintain registration in SAM at all times during which it has an active Federal award or an application or plan under consideration by the Agency. The applicant must ensure that the information in the database is current, accurate, and complete. Applicants must ensure they complete the Financial Assistance General Certifications and Representations in SAM. Similarly, all recipients of Federal financial assistance are required to report information about first-tier subawards and executive compensation in accordance to 2 CFR part 170. So long as an entity applicant does not have an exception under 2 CFR 170.110(b), the applicant must have the necessary processes and systems in place to comply with the reporting requirements should the applicant receive funding. See 2 CFR 170.200(b). An applicant, unless excepted under 2 CFR 25.110(b), (c), or (d), is required to: (a) Be registered in SAM before submitting its application; (b) provide a valid DUNS number in its application; and (c) continue to maintain an active SAM registration with current information at all times during which it has an active Federal award or an application or plan under consideration by a Federal awarding agency. The Federal awarding agency may not make a federal award to an applicant until the applicant has complied with all applicable DUNS and SAM requirements and, if an applicant has not fully complied with the requirements by the time the Federal awarding agency is ready to make a Federal award, the Federal awarding agency may determine that the applicant is not qualified to receive a Federal award and use that determination as a basis for making a Federal award to another applicant. As required by the Office of Management and Budget (OMB), all grant applications must provide a DUNS number when applying for Federal grants, on or after October 1, 2003. Organizations can receive a DUNS number at no cost by calling the dedicated toll-free number at 1-866- 705-5711 or via internet at http://fedgov.dnb.com/webform. Additional information concerning this requirement can be obtained on the Grants.gov website at http://www.grants.gov. Similarly, applicants may register for SAM at https://www.sam.gov or by calling 1-866-606- 8220. The applicant must provide documentation that they are registered in SAM and their DUNS number. If the applicant does not provide documentation that they are registered in SAM and their DUNS number, the application will not be considered for funding. Applicants no longer must complete the following forms for acceptance of a federal award, given that such information is now collected through the registration or annual recertification process in SAM.gov: • Form AD-1047, “Certification Regarding Debarment, Suspension, and Other Responsibility Matters-Primary Covered Transactions.” • Form AD-1048, “Certification Regarding Debarment, Suspension, Ineligibility and Voluntary Exclusion. Lower Tier Covered Transactions.” • Form AD-1049, “Certification Regarding Drug-Free Workplace Requirements (Grants).” • Form AD-3031, “Assurance Regarding Felony Conviction or Tax Delinquent Status for Corporate Applicants.”

C. Cost Sharing or Matching

Any and all cost sharing, matching, and cost participation requirements of the applicable covered program apply to projects seeking SECD reserved funds.

D. Other Eligibility Requirements

Any and all other eligibility requirements (beyond those identified in III.A of this notice) found in the covered programs applying to applicants, their projects, and the beneficiaries of those projects are unchanged by either this notice or the Section 6401 regulation.

IV. Application Evaluation and Selection for Covered Programs Funds

A. Scoring of Applications

All FY 2022 applications for covered programs will be reviewed, evaluated, and scored based on the covered program's scoring criteria. This notice does not affect that process. This notice only affects the scoring of SECD applications competing for a covered program's SECD reserve funds.

For applicants wishing to be considered for reserved SECD funds in FY 2022, the Agency will review, evaluate, and score each application based on the criteria specified in 7 CFR 1980.1020, to award points for each program's competition for the SECD reserved funds.

B. Selection Process

The Agency will prioritize applications competing for a covered program's reserved funds based on the covered program's awarded points plus the SECD earned points to determine which projects receive reserved funds.

VI. Award Administration Information

A. Award Notices

The Agency will notify SECD applicants who receive funding in a manner consistent with award notifications for the covered program.

B. Administrative and National Policy Requirements

Any and all additional requirements of the applicable covered programs apply to projects receiving funding in response to this notice. Please see the regulations for the applicable covered program.

C. Reporting Requirements

Any and all post-award reporting requirements contained in the covered program apply to all projects receiving reserved funds in response to this notice.

VII. Additional Information

Paperwork Reduction Act

In accordance with the Paperwork Reduction Act of 1995, the information collection requirements contained in 7 CFR part 1980, subpart K, have been approved by Office of Management and Budget (OMB) under OMB Control Number 0570-0068.

Federal Funding Accountability and Transparency Act

All applicants, in accordance with 2 CFR part 25, must have a DUNS number, which can be obtained at no cost via a toll-free request line at 1-866-705-5711 or online at https://fedgov.dnb.com/webform. Similarly, all grant applicants must be registered in the System for Award Management (SAM) prior to submitting an application. Applicants may register for the SAM at http://www.sam.gov/SAM. All recipients of Federal financial grant assistance are required to report information about first-tier sub-awards and executive total compensation in accordance with 2 CFR part 170. Applicants must ensure they complete the Financial Assistance General Certifications and Representations in SAM.

Civil Rights

Programs referenced in this Notice are subject to applicable Civil Rights Laws. These laws include the Equal Credit Opportunity Act, Title VI of the Civil Rights Act of 1964, Title VIII of the Civil Rights Act of 1968, and Section 504 of the Rehabilitation Act of 1973.

Nondiscrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

Justin Maxson,
Deputy Under Secretary, Rural Development.

[FR Doc. 2021-22499 Filed 10-14-21; 8:45 am]

BILLING CODE 3410-XY-P